DEPARTMENT OF JUSTICE

Notice of Lodging of Proposed Consent Decree Under the Comprehensive Environmental Response, Compensation, and Liability Act

On January 30, 2014, the Department of Justice lodged a proposed consent decree with the United States District Court for the Central District of California in the lawsuit entitled City of Colton v. American Promotional Events, Inc., et al., Civil Action No. CV 09-01864 PSG [Consolidated with Case Nos. CV 09-6630 PSG (SSx), CV 09-06632 PSG (SSx), CV 09-07501 PSG (SSx), CV 09-07508 PSG (SSx), CV 10-824 PSG (SSx) and CV 05-01479 PSG (SSx)].

In this action, the United States filed a complaint under Section 107 of the Comprehensive Environmental Response, Compensation, and Liability Action (“CERCLA”), 42 U.S.C. 9607, seeking to recover past response costs incurred in connection with the formerly named B.F. Goodrich Superfund Site, which was subsequently renamed the Rockets, Fireworks, and Flares Superfund Site (“RFF Site”). The proposed consent decree (“Hescox Consent Decree”) requires the Estate of Hescox to pay $11 million toward RFF Site costs. In return, the United States provides certain covenants not to sue and other protections pursuant to CERCLA and Section 7003 of Resource Conservation and Recovery Act, 42 U.S.C. 6973. A hearing will be held on the proposed settlement if requested in writing within the public comment period.

The publication of this notice opens a period for public comment on the Hescox Consent Decree. Comments should be addressed to the Assistant Attorney General, Environment and Natural Resources Division, and should refer to City of Colton v. American Promotional Events, Inc., et al., D.J. Ref. No. 90-11-2-09952. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Hescox Consent Decree may be examined and downloaded at this Justice Department Web site: http://www.usdoj.gov/enrd/Consent_Decrees.html. We will provide paper copies of the consent decree upon written request and payment of reproduction costs. Please mail your request and payment to: Consent Decree Library, U.S. DOJ—ENRD, P.O. Box 7611, Washington, DC 20044-7611.

Please enclose a check or money order for $15.50 (25 cents per page reproduction cost) for the Hescox Consent Decree payable to the United States Treasury.

Henry Friedman,
Assistant Section Chief, Environmental Enforcement Section, Environment and Natural Resources Division.

[FR Doc. 2014-02605 Filed 2-6-14; 8:45 am]

BILLING CODE 4410-15-P